DEPARTMENT OF EDUCATION

34 CFR Chapter II

[Docket ID ED-2018-OESE-0069]

Proposed Priorities, Requirements, Definitions, and Performance Measures—Comprehensive Centers Program Catalog of Federal Domestic Assistance (CFDA) Number: 84.283B

AGENCY: Office of Elementary and Secondary Education, Department of Education.

ACTION: Proposed priorities.

SUMMARY: The Assistant Secretary for Elementary and Secondary Education (Assistant Secretary), U.S. Department of Education (Department) proposes priorities, requirements, definitions, and performance measures under the Comprehensive Centers program. The Assistant Secretary may use these priorities, requirements, definitions, and performance measures for competitions in fiscal year (FY) 2019 and later years. We intend to use the priorities, requirements, and definitions to award grants to eligible applicants seeking to provide capacity-building services to State educational agencies (SEAs), regional educational agencies (REAs), local educational agencies (LEAs), and schools that improve educational outcomes for all students, close achievement gaps, and improve the quality of instruction.

DATES: We must receive your comments on or before October 29, 2018.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “How to Use Regulations.gov.”

• Postal Mail, Commercial Delivery, or Hand Delivery: If you mail or deliver your comments about this notice of proposed priorities, requirements, definitions, and performance measures, address them to Kim Okahara, U.S. Department of Education, 400 Maryland Avenue SW, Room 3E204, Washington, DC 20202-6132.

Privacy Note: The Department's policy is to make all comments received from members of the public available for public viewing in their entirety on the Federal eRulemaking Portal at www.regulations.gov. Therefore, commenters should be careful to include in their comments only information that they wish to make publicly available.

FOR FURTHER INFORMATION CONTACT: Kim Okahara, U.S. Department of Education, 400 Maryland Avenue SW, Room 3E204, Washington, DC 20202-6135. Telephone: (202) 453-6930. Email: kim.okahara@ed.gov.

If you use a telecommunications device for the deaf (TDD) or a text telephone (TTY), call the Federal Relay Service (FRS), toll free, at 1-800-877-8339.

SUPPLEMENTARY INFORMATION:

Invitation to Comment: We invite you to submit comments regarding the proposed priorities, requirements, definitions, and performance measures. To ensure that your comments have maximum effect in developing the final priorities, requirements, definitions, and performance measures, we urge you to identify clearly the specific section or sections of the proposed priorities, requirements, definitions, and performance measures that each of your comments addresses and to arrange your comments in the same order as the proposed priorities, requirements, definitions, and performance measures.

We invite you to assist us in complying with the specific requirements of Executive Orders 12866, 13563, and 13771 and their overall requirement of reducing regulatory burden that might result from these proposed priorities, requirements, definitions, and performance measures. Please let us know of any further ways we could reduce potential costs or increase potential benefits while preserving the effective and efficient administration of the program.

During and after the comment period, you may inspect all public comments about these proposed priorities, requirements, definitions, and performance measures by accessing Regulations.gov. You may also inspect the comments in person in Room 3E204, 400 Maryland Avenue SW, Washington, DC, between 8:30 a.m. and 4:00 p.m., Eastern Time, Monday through Friday of each week except Federal holidays. Please contact the person listed under FOR FURTHER INFORMATION CONTACT.

Assistance to Individuals with Disabilities in Reviewing the Rulemaking Record: On request, we will provide an appropriate accommodation or auxiliary aid to an individual with a disability who needs assistance to review the comments or other documents in the public rulemaking record for these proposed priorities, requirements, definitions, and performance measures. If you want to schedule an appointment for this type of accommodation or auxiliary aid, please contact the person listed under FOR FURTHER INFORMATION CONTACT.

Purpose of Program: The Comprehensive Centers program supports the establishment of not less than 20 Comprehensive Centers to provide capacity-building services to SEAs, REAs, LEAs, and schools that improve educational outcomes for all students, close achievement gaps, and improve the quality of instruction.

Program Authority: Section 203 of the Educational Technical Assistance Act of 2002 (ETAA) (20 U.S.C. 9601 et seq.).

Background: The Elementary and Secondary Education Act of 1965 (ESEA), as amended by the Every Student Succeeds Act (ESSA),¹ holds States accountable for closing achievement gaps and ensuring that all children, regardless of race, ethnicity, family income, English language proficiency, or disability, receive a high-quality education and meet challenging State academic standards.

¹ Throughout this document, unless otherwise indicated, citations to the ESEA refer to the ESEA, as amended by the ESSA.

The ETAA authorizes support for not less than 20 grants to local entities, or consortia of such entities, with demonstrated expertise in providing capacity-building services in reading, mathematics, science, and technology, especially to low-performing schools and districts, including the administration and implementation of programs authorized under the ESEA. Under section 203(a)(2) of the ETAA, the Department is required to establish at least one Center in each of the 10 geographic regions served by the Department's Regional Educational Laboratories (RELs) authorized under section 941(h) of the Educational Research, Development, Dissemination, and Improvement Act of 1994. The proposed funding for Regional Centers established under the ETAA must take into consideration the school-age population, proportion of economically disadvantaged students, increased cost burdens of service delivery in rural areas, and number of schools identified for improvement under ESEA section 1111(d). Accordingly, the regions for the proposed Regional Centers take into account total SEAs, LEAs, REAs, SEAs, and LEAs eligible for the Small, Rural School Achievement Program and the Rural Low-Income School Program, schools, and the associated RELs.

The Department conducted a competition in 2012 and made five-year awards to 15 Regional Centers and seven Content Centers. The 15 Regional Centers provided direct technical assistance to SEAs within their assigned geographic region through a variety of approaches, such as identifying best practices and resources, providing training, and helping States plan strategically and engage key stakeholders. In addition, seven Content Centers provided specialized support in the following key areas: Standards and assessments implementation, great teachers and leaders, school turnaround, enhancing early learning outcomes, college- and career-readiness and success, building State capacity and productivity, and innovations in learning. Content Centers developed materials, such as guides, tools, and training modules, and they provided direct technical assistance to States in collaboration with Regional Centers.²

² In 2016, the Department established a National Comprehensive Center on Improving Literacy for Students with Disabilities pursuant to provisions included in the ESSA. The Center is authorized as part of the Comprehensive Centers program and managed by the Office of Special Education and Rehabilitative Services. See https://improvingliteracy.org/ for more information.

On March 13, 2017, the Department granted waivers to extend the performance period of the Comprehensive Centers from October 1, 2017, through September 30, 2019 (82 FR 13452). The Department concluded it would be in the public interest to hold a competition only after all new statutory requirements under the reauthorized ESEA went into effect. Delaying the competition until after the Department and States began to implement the new provisions under the ESEA allowed applicants to familiarize themselves with the new statutory requirements and submit applications that better serve States under the new law.

Additionally, pursuant to authority granted to the Secretary in Title III of Division H of the Consolidated Appropriations Act, 2016 (Pub. L. 114-113), and subsequent Consolidated Appropriations Acts, Comprehensive Center services may be provided to the Bureau of Indian Education (BIE) and schools within its jurisdiction.

Proposed Priorities

We propose two priorities. The Assistant Secretary may use one or more of these priorities for the FY 2019 Comprehensive Centers program competition or for any subsequent competition.

Background: In accordance with ETAA section 206, the Secretary established 10 Regional Advisory Committees (RACs) to identify each region's most critical educational needs and develop recommendations for technical assistance to meet those needs. The RACs met and engaged their respective constituencies between July 19, 2016, and August 26, 2016. Final RAC reports were published in October 2016.³

³ The full reports are available at: https://www2.ed.gov/about/bdscomm/list/rac/index.html.

While specific needs and recommendations varied by region, the three highest needs identified across all 10 RACs were: College and career readiness; ensuring equity and addressing issues of disproportionality; and supporting the lowest performing schools.⁴ Education stakeholders noted that identified needs were not mutually exclusive and there is considerable overlap between implementing the ESEA, ensuring equity, equitable distribution of highly effective teachers and leaders, and improving assessments and accountability systems.⁵ Key recommendations for services to meet those needs included: Engage stakeholders from different groups in the SEAs' decision-making processes; facilitate cross-group collaboration to strengthen partnerships; create or compile resources, tools, and best practice guides that incorporate specific contexts (e.g., rural populations or particular subgroups); disseminate evidence-based (as defined in 34 CFR 77.1) research and guides; develop or identify training and professional development; and promote community and stakeholder engagement.⁶

⁴ See page 5, A Cross-Regional Advisory Committee Analysis at: https://www2.ed.gov/about/bdscomm/list/rac/index.html.

⁵ Ibid.

⁶ Ibid., pages 5-8.

Consistent with the RAC findings and recommendations and the requirements of both the ESEA and the ETAA, the Department believes that the best way to assist State-led reform efforts is to focus Comprehensive Centers on implementing and scaling evidence-based programs, practices, and interventions that directly benefit those eligible to receive Comprehensive Center services (recipients): (1) Recipients that have high percentages or numbers of students from low-income families; (2) recipients that are implementing comprehensive support and improvement activities or targeted support and improvement activities; and (3) recipients in rural areas.

In order for States to effectively implement and scale-up evidence-based programs, practices, and interventions, we propose that Regional Centers deliver intensive services to help their assigned States advance through the following phases of implementation: Conducting needs assessments, developing logic models, selecting appropriate evidence-based practices, planning for the implementation of evidence-based practices, implementing evidence-based practices, and evaluating the implementation of evidence-based practices. We also propose that the National Center deliver universal services to help all States address common high-leverage problems, common implementation challenges, and emerging education trends.

By delineating which Centers will deliver universal, targeted, and intensive services, the proposed model minimizes duplication of Comprehensive Center resources and enables more coherent, coordinated, and efficient service delivery to all States.

The FY 2019 Comprehensive Centers program logic model provided in this document outlines the expected inputs, types of services, outputs, and outcomes that, when taken together, we believe are more likely to result in organizational structures and systems that ensure high-quality services and supports for disadvantaged students and students from low-income families.

Priority 1: Regional Centers

Regional Centers must provide high-quality intensive capacity-building services to State clients and recipients to identify, implement, and sustain effective evidence-based practices that support improved educator and student outcomes. As appropriate, capacity-building services must assist clients and recipients in: (1) Carrying out approved ESEA Consolidated State Plans with preference given to the implementation and scaling up of evidence-based programs, practices, and interventions that directly benefit recipients that have high percentages or numbers of students from low-income families as referenced in Title I, Part A of the ESEA (ESEA secs. 1113(a)(5) and 1111(d)) and recipients that are implementing comprehensive support and improvement activities or targeted support and improvement activities as referenced in Title I, Part A of the ESEA (ESEA sec. 1111(d)); (2) implementing and scaling-up evidence-based programs, practices, and interventions that address the unique educational obstacles faced by rural populations; (3) carrying out corrective actions (e.g., addressing audit findings as a result of monitoring conducted by the Department); and (4) working with the National Center to identify trends and best practices, and develop cost-effective strategies to make their work available to as many REAs, LEAs, and schools in need of support as possible.

Applicants must propose to operate a Regional Center in one of the following regions:

Region 1: Massachusetts, Maine, New Hampshire, Vermont

Region 2: Connecticut, New York, Rhode Island

Region 3: Delaware, District of Columbia, Maryland, New Jersey, Pennsylvania

Region 4: Kentucky, Tennessee, Virginia, West Virginia

Region 5: Georgia, North Carolina, South Carolina

Region 6: Alabama, Florida, Mississippi, Puerto Rico, Virgin Islands

Region 7: Indiana, Michigan, Ohio

Region 8: Illinois, Iowa

Region 9: Minnesota, Wisconsin

Region 10: North Dakota, South Dakota, Wyoming

Region 11: Colorado, Nebraska

Region 12: Kansas, Missouri

Region 13: Arizona, Bureau of Indian Education, New Mexico, Oklahoma

Region 14: Arkansas, Louisiana, Texas

Region 15: California, Nevada, Utah

Region 16: Alaska, Oregon, Washington

Region 17: Idaho, Montana

Region 18: Commonwealth of the Northern Mariana Islands, Federated States of Micronesia, Guam, Palau

Region 19: American Samoa, Hawaii, Republic of the Marshall Islands

Priority 2: National Center

The National Center must provide high-quality universal (e.g., policy briefs) and targeted (e.g., peer-to-peer exchanges and communities of practice that convene SEAs, REAs, LEAs, and schools on a particular topic) capacity-building services to address the following: Common high-leverage problems identified in Regional Center State service plans (as outlined in Program Requirement (a)(1)), common findings from finalized Department monitoring reports or audit findings, common implementation challenges faced by States and Regional Centers, and emerging national education trends. As appropriate, universal and targeted capacity-building services must assist Regional Center clients and recipients to: (1) Implement approved ESEA Consolidated State Plans, with preference given to implementing and scaling evidence-based programs, practices, and interventions that directly benefit entities that have high percentages or numbers of students from low-income families as referenced in Title I, Part A of the ESEA (ESEA sec. 1113(a)(5) and 1111(d)) and recipients that are implementing comprehensive support and improvement activities or targeted support and improvement activities as referenced in Title I, Part A of the ESEA (ESEA sec. 1111(d)); and (2) implement and scale evidence-based programs, practices, and interventions that address the unique educational obstacles faced by rural populations. The work of the National Center must include the implementation of effective strategies for reaching and supporting as many SEAs, REAs, LEAs, and schools in need of services as possible.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Requirements

The Assistant Secretary proposes the following requirements for this program. We may apply one or more of these requirements in any year in which this program is in effect. See Proposed Definitions for all definitions proposed to be used in these requirements.

Background: The Comprehensive Centers will provide capacity-building services at a time when States, districts, and schools are moving forward with implementing approved ESEA Consolidated State Plans and have greater flexibility in supporting and growing local innovations, including evidence-based interventions. In this period of transition, Centers must be responsive to State contexts (e.g., strengths, needs, priorities, and initiatives), knowledgeable of existing State strengths and resources (e.g., business and industry partners), and able to promote self-sufficiency and sustainability.

The Department believes leadership support throughout the SEA is critical to ensuring that Centers provide services that advance State-led efforts to implement and scale-up evidence-based programs, practices, and interventions. When proposing annual service plans to the Department, we propose to require Regional Centers to demonstrate that they consulted with and garnered commitment from Chief State School Officers (CSSOs) or their designees (clients) prior to carrying out capacity-building services. We also propose to require Centers to identify recipients of capacity-building services, such as SEAs, REAs, LEAs, and school teams, in consultation with the CSSO.

In addition to maintaining strong relationships with SEA leadership, under the proposed requirements, Centers must conduct routine exploration of client and recipient needs. This exploration process must utilize multiple perspectives from the Center, State clients and recipients, and multiple data sources, such as key Federal and State documents. The Department believes that frequent communication with State clients and recipients is necessary for Centers to identify high-leverage problems; assemble and deploy interdisciplinary teams with appropriate subject-matter expertise; meaningfully collaborate with Department-funded technical assistance providers carrying out projects in States; serve as credible partners to national organizations, businesses, and industry; periodically assess client satisfaction; and monitor progress on agreed-upon outcomes, outputs, and milestones. To that end, Centers are encouraged to develop cost-effective strategies for continuous and timely input from their full range of clients on both State and local needs and the quality of services provided.

In order for Regional Centers and the National Center to be credible partners and valued service providers to States, we believe that each Center must implement a robust personnel management system that enables timely access to nationally recognized experts in the content areas (e.g., improving accountability systems, improving standards and assessments, and improving educator talent) identified through routine needs assessments, as well as enduring access to professional staff (e.g., staff with expertise in organizational development, project management, coaching, communications and outreach, and program evaluation).

Note: The details and parameters of the Department's expectations and involvement will be included in the cooperative agreement with each grantee.

(a) Program Requirements for Regional Centers:

(1) Develop a service plan annually in consultation with each State's CSSO that includes the following elements: High-leverage problems to be addressed, phase of implementation (e.g., needs assessment), capacity-building services to be delivered, key personnel responsible, key Department-funded technical assistance partners, milestones, outputs, outcomes, and, if appropriate, fidelity measures. The annual service plan must be an update to the Center's five-year plan submitted as part of the Center's application. The annual service plan elements must also correspond to the relevant sections of the program logic model.

(2) Develop and implement an effective personnel management system that enables the Center to efficiently obtain and retain the services of nationally recognized content experts and other consultants with direct experience working with SEAs, REAs, and LEAs. Personnel must demonstrate that they have the appropriate expertise to deliver quality, intensive services that meet client and recipient needs similar to those in the region to be served.

(3) Develop and implement an effective communications system that enables routine and ongoing exploration of client and recipient needs as well as feedback on services provided. The system must enable routine monitoring of progress toward agreed-upon outcomes, outputs, and milestones; periodic assessment of client satisfaction; and timely identification of changes in State contexts that may impact success of the project. The communications system must include processes for outreach activities (e.g., regular promotion of services and products to clients and potential and current recipients, particularly at the local level), regular engagement and coordination with the National Center and partner organizations (e.g., other federally funded technical assistance providers), use of feedback loops across organizational levels (Federal, State, and local), and regular engagement of stakeholders involved in or impacted by proposed services.

(4) Collaborate with the National Center to support client and recipient participation in learning opportunities (e.g., multi-State and cross-regional peer-to-peer exchanges on high-leverage problems) and support participation of Regional Center staff in learning opportunities (e.g., peer-to-peer exchanges on effective coaching systems), with the goal of reaching as many REAs, LEAs, and schools in need of services as possible while also providing high-quality services.

(5) Identify and enter into partnership agreements with regional educational laboratories, national organizations, businesses, and industry for the purpose of supporting States in the implementation and scale-up of evidence-based programs, practices, and interventions as well as reducing duplication of services to States.

(6) Be located in the region the Center serves. The Project Director must be full-time (1.0) and located in the region that the Center serves. Key personnel must also be able to provide onsite services at the intensity, duration, and modality appropriate to achieving agreed-upon milestones, outputs, and outcomes described in State service plans.

(7) Within 90 days of receiving funding for an award under this document, demonstrate that it has secured client and partner commitments to carry out proposed service plans.

(b) Program Requirements for the National Center:

(1) Develop a service plan annually in consultation with the Department and Regional Centers. The service plan must take into account commonalities in identified high-leverage problems in Regional Center State service plans, finalized Department monitoring and audit findings, implementation challenges faced by Regional Centers and States, and emerging national education trends. The annual service plan must be an update to the Center's five-year plan submitted as part of the Center's application. The annual service plan must include, at a minimum, the following elements: High-leverage problems to be addressed, capacity-building services to be delivered, key personnel responsible, milestones, outputs, and outcome measures. The annual service plan must also include evidence that the Center involved Regional Centers in identifying targeted and universal services that complement Regional Center services to improve client and recipient capacity.

(2) Maintain the Comprehensive Center network website, with an easy-to-navigate design, that meets government or industry-recognized standards for accessibility.

(3) Develop and implement an effective personnel management system that enables the Center to retain and efficiently obtain the services of education practitioners, researchers, policy professionals, and other consultants with direct experience with SEAs, REAs, and LEAs. Personnel must have a proven record of publishing in peer-reviewed journals, presenting at national conferences, or delivering quality adult learning experiences that meet client and recipient needs.

(4) Disseminate information (e.g., instructional videos, toolkits, and briefs) and evidence-based practices to a variety of education stakeholders, including the general public, via multiple mechanisms such as the Comprehensive Center network website, social media, and other channels as appropriate.

(5) Disseminate Regional Center State service plans, Center annual performance reports, and other materials through the Comprehensive Center network website and other channels as appropriate.

(6) Collaborate with Regional Centers to implement learning opportunities for recipients (e.g., multi-State and cross-regional peer-to-peer exchanges on high-leverage problems) and develop learning opportunities for Regional Center staff to address implementation challenges (e.g., peer-to-peer exchanges on effective coaching systems for district teams).

(7) Develop and implement an effective communications system that enables routine and ongoing exploration of Regional Center client and recipient needs. The system must enable routine monitoring of progress toward agreed-upon outcomes, outputs, and milestones; periodic assessment of client satisfaction; and timely identification of changes in Federal or State contexts that may impact success of the project. The communications system must include processes for outreach activities (e.g., regular promotion of services and products to clients and potential and current recipients), use of feedback loops across organizational levels (Federal, State, and local), regular engagement and coordination with the Department, Regional Centers, and partner organizations (e.g., federally funded technical assistance providers), and engagement of stakeholders involved in or impacted by proposed school improvement activities.

(8) Identify potential partners and enter into partnership agreements with other federally funded technical assistance providers, industry, national associations, and other organizations to support the implementation and scaling-up of evidence-based programs, practices, and interventions.

(9) Identify a full-time (1.0 FTE) project director capable of managing all aspects of the Center.

(10) Within 90 days of receiving funding for an award under this document, demonstrate that it has secured client and partner commitments to carry out proposed service plans.

(c) Application Requirements for All Centers:

(1) Present applicable State, regional, and local data demonstrating the current needs related to building capacity to implement and scale up evidence-based programs, practices, and interventions. Reference, as appropriate, information related to the Department's finalized monitoring and audit findings.

(2) Demonstrate expert knowledge of statutory requirements, regulations, and policies related to programs authorized under ESEA and current education issues and policy initiatives for supporting the implementation and scaling up of evidence-based programs, practices, and interventions.

(3) Consistent with the priorities and requirements for this program, demonstrate expertise and experience in the following areas:

(i) Managing budgets; selecting, coordinating, and overseeing multiple consultant and sub-contractor teams; and leading large-scale projects to deliver tools, training, and other services to governments, agencies, communities, businesses, schools, or other organizations.

(ii) Designing and implementing performance management processes with staff, subcontractors, and consultants that enable effective hiring, developing, supervising, and retaining a team of subject-matter experts and professional staff.

(iii) Identifying problems and conducting root-cause analysis; developing and implementing logic models, organizational assessments, strategic plans, and process improvements; and sustaining the use of evidence-based programs, practices, and interventions.

(iv) Monitoring and evaluating activities, including, but not limited to: Compiling data, conducting interviews, developing tools to enhance capacity-building approaches, conducting data analysis using statistical software, interpreting results from data using widely acceptable quantitative and qualitative methods, and developing evaluation reports.

(3) Provide copies of memoranda of understanding (MOU) with Department-funded technical assistance providers, including the REL(s) in the region that the Center serves, that are charged with supporting comprehensive, systemic changes in States or Department-funded technical assistance providers with particular expertise (e.g., early learning) that can augment the applicant's ability to align complementary work and jointly develop and implement products and services to meet the purposes of the Centers.

(4) Describe the current research on adult learning principles, coaching, and implementation science that will inform the applicant's capacity-building services, including how the applicant will promote self-sufficiency and sustainability of State-led school improvement activities.

(5) Present a proposed communications plan for working with appropriate levels of the education system (e.g., SEAs, REAs, LEAs, schools) to ensure there is communication between each level and that there are processes in place to support, and continuously assess, the implementation of evidence-based programs, practices, and interventions. The applicant must describe how it will engage in meaningful consultation with a broad range of stakeholders (e.g., principals, teachers, families, community members, etc.). The ideal applicant will propose effective strategies for receiving ongoing and timely input on the needs of its clients and the usefulness of its services.

(6) Present a proposed evaluation plan for the project. The evaluation plan must describe the criteria for determining the extent to which: Milestones were met; outputs were met; recipient outcomes (short-term, mid-term, and long-term) were met; and capacity-building services proposed in State service plans were implemented as intended.

(7) Present a logic model informed by research or evaluation findings that demonstrates a rationale (as defined in 34 CFR 77.1) explaining how the project is likely to improve or achieve relevant and expected outcomes. This logic model must align with the Comprehensive Centers program logic model, communicate how the project will achieve its expected outcomes (short-term, mid-term, and long-term) and provide a framework for both the formative and summative evaluations of the project consistent with the applicant's evaluation plan.⁷ Include a description of underlying concepts, assumptions, expectations, beliefs, and theories, as well as the relationships and linkages among these variables, and any empirical support for this framework.

⁷ See Figure 1—Comprehensive Centers program logic model (as defined in 34 CFR 77.1) in this document.

(8) Include an assurance that, if awarded a grant, the applicant will assist the Department with the transfer of pertinent resources and products and maintain the continuity of services to States during the transition to this new award period, as appropriate, including by working with the FY 2012 Comprehensive Center on Building State Capacity and Productivity to migrate products, resources, and other relevant project information to the National Center's Comprehensive Center network website.

(d) Application Requirements for Regional Centers: In addition to meeting the application requirements for all Centers in paragraph (c) a Regional Center applicant must—

(1) Describe the proposed approach to intensive capacity-building services, including identification of intended recipients and alignment of proposed capacity-building services to meet client needs. The applicant must also describe how it intends to measure the readiness of clients and recipients to work with the applicant; measure client and recipient capacity across the four capacity-building dimensions, including available resources; and measure the ability of the client and recipients to build capacity at the local level.

(e) Application Requirements for the National Center: In addition to meeting the application requirements for all Centers in paragraph (c), a National Center applicant must:

(1) Demonstrate expertise and experience in leading digital engagement strategies to attract and sustain involvement of education stakeholders, including, but not limited to: Implementing a robust web and social media presence, overseeing customer relations management, providing editorial support, and collecting and analyzing web analytics.

(2) Describe the intended recipients of and the proposed approach to targeted capacity-building services, including how the applicant intends to collaborate with Regional Centers to identify potential recipients and how many it has the capacity to reach; measure the readiness and capacity of potential recipients across the four dimensions; and continuously engage potential recipients over the five-year period.

(3) Describe the intended recipients of and the proposed approach to universal capacity-building services, including how the applicant intends to: Measure the quality of the products and services developed to address common high-leverage problems; how many recipients it plans to reach; support recipients in the selection, implementation, and monitoring of evidence-based practices and interventions; and improve knowledge of emerging national education trends.

Proposed Definitions

Background: The Department proposes the establishment of the following definitions for the Comprehensive Centers program. The proposed definitions are intended to (1) clarify expectations for Centers and (2) uniformly apply and utilize terms and definitions from the Department and other federally funded technical assistance Centers.

Proposed Definitions: The Assistant Secretary proposes the following definitions for this program. We may apply one or more of these definitions in any year in which this program is in effect. The proposed definitions are:

Capacity-building services means assistance that strengthens an individual's or organization's ability to engage in continuous improvement and achieve expected outcomes.

The four dimensions of capacity-building services are:

(1) Human capacity: Development or improvement of individual knowledge, skills, technical expertise, and ability to adapt and be resilient to policy and leadership changes.

(2) Organizational capacity: Structures that support clear communication and a shared understanding of an organization's visions and goals, and delineated individual roles and responsibilities in functional areas.

(3) Policy capacity: Structures that support alignment, differentiation, or enactment of local, State, and Federal policies and initiatives.

(4) Resource capacity: Tangible materials and assets that support alignment and use of Federal, State, private, and local funds.

The three tiers of capacity-building services are:

(1) Intensive: Assistance often provided on-site and requiring a stable, ongoing relationship between the Regional Center staff and their clients and recipients, as well as periodic evaluations and feedback strategies. This category of capacity-building services should support increased recipient capacity in more than one capacity dimension and improved outcomes at one or more system levels.

(2) Targeted: Assistance based on needs common to multiple clients and recipients and not extensively individualized. A relationship is established between the recipient(s), Regional Center(s), and the National Center. This category of capacity-building services includes one-time, labor-intensive events, such as facilitating strategic planning or hosting national or regional conferences. It can also include less labor-intensive events that extend over a period of time, such as facilitating a series of conference calls on single or multiple topics that are designed around the needs of the recipients. Facilitating communities of practice can also be considered targeted capacity-building services.

(3) Universal capacity-building services: Assistance and information provided to independent users through their own initiative, involving minimal interaction with National Center staff and including one-time, invited or offered conference presentations by National Center staff. This category of capacity-building services also includes information or products, such as newsletters, guidebooks, policy briefs, or research syntheses, downloaded from the Center's website by independent users. Brief communications by National Center staff with recipients, either by telephone or email, are also considered universal services.

High-leverage problems means problems that (1) if addressed could result in substantial improvements for many students or for key subgroups of students as defined in ESEA section 1111(c) and (d); (2) are priorities for education policymakers, particularly at the State level; and (3) require intensive capacity-building services to achieve outcomes that address the problem.

Milestone means an activity that must be completed. Examples include: Identification of key district administrators responsible for professional development, sharing key observations from needs assessment with district administrators and identified stakeholders, logic model, plan for State-wide professional development, identification of subject matter experts, and conducting train-the-trainer sessions.

Outcomes means effects of receiving capacity-building services. Examples include: 95 percent of district administrators reported increased knowledge; 2 districts reported improved cross-agency coordination; and 3 districts reported identification of 2.0 FTE responsible for professional development.

Outputs means products and services that must be completed. Examples include: Needs assessment, logic model, training modules, evaluation plan, and 12 workshop presentations.

Note: A product output under this program would be considered a deliverable under the open licensing regulations at 2 CFR 3474.20.

Regional educational agency, for the purposes of the Comprehensive Centers program, means “Tribal Educational Agency” as defined in ESEA section 6132(b)(3), as well as other educational agencies that serve regional areas.

Service plan project means a series of interconnected capacity-building services designed to achieve recipient outcomes and outputs. A service plan project includes, but is not limited to, a well-defined high-leverage problem, an approach to capacity-building services, intended recipients, key personnel, expected outcomes, expected outputs, and milestones.

Proposed Performance Measures

Background: While we are not required to seek comment on the Department's Government Performance and Results Act of 1993 (GPRA) performance measures, the Department believes the development of effective performance measures can benefit from public input and invites public comment to help inform the final performance measures for the Comprehensive Centers program. Although the Department will consider the public comments, the Department is not limited by the terms of the proposed performance measures or public comment on those measures in establishing final performance measures. The Department recognizes that the Centers strive to provide useful, high-quality services, while also attempting to reach as many recipients in need of support as possible. We are particularly interested in receiving input on measures that address usefulness to the recipients and the reach and scope of the services provided.

The proposed performance measures are intended to assess the extent to which Comprehensive Centers: (1) Achieved high client ⁸ satisfaction; (2) served a wide range of recipients; ⁹ (3) implemented capacity-building activities with fidelity; and (4) achieved recipient outcomes.

⁸ Client means Chief State School Officers or designees.

⁹ Recipients means those eligible for Comprehensive Center services.

Proposed Performance Measures

Measure 1: The extent to which Comprehensive Center clients are satisfied with the quality, usefulness, and relevance of services provided.

Measure 2: The extent to which Comprehensive Centers provide services and products to a wide range of recipients.

Measure 3: The extent to which Comprehensive Centers demonstrate that capacity-building services were implemented as intended.

Measure 4: The extent to which Comprehensive Centers demonstrate recipient outcomes were met.

Comprehensive Centers Program Logic Model: Figure 1 is a diagram of the FY 2019 Comprehensive Centers program logic model. A logic model refers to a framework that identifies key project components, inputs, processes, outputs, and short-, mid-, and long-term outcomes and impacts and describes the theoretical and operational relationships among the key project components and relevant outcomes. The Comprehensive Centers program logic model inputs include but are not limited to SEA and LEA staff, implementation and organizational expertise, content area expertise, and Federal funding, staff, and regulations. Processes include capacity-building services that help recipients to develop needs assessments and logic models, select evidence-based practices, and planning for and assisting in the implementation of evidence-based practices. Outputs include products, data, and information to assist in the implementation and evaluation of evidence-based practices, such as needs assessments and logic models. Short-term outcomes include increased individual and organizational capacity in four dimensions: Human, organizational, policy, and resource. Mid-term outcomes include improving SEA and LEA capacity to plan, implement, and evaluate school improvement programs in order to improve policies, practices, and systems to implement and evaluate school improvement programs. Long-term outcomes include improved educational opportunities and academic outcomes for disadvantaged and low-income students.

BILLING CODE 4000-01-P

BILLING CODE 4000-01-C

Final Priorities, Requirements, Definitions, and Performance Measures

We will announce the final priorities, requirements, definitions, and performance measures in a notice in the Federal Register. We will determine the final priorities, requirements, definitions, and performance measures after considering responses to the proposed priorities, requirements, definitions, and performance measures and other information available to the Department. We are not precluded from proposing additional priorities, requirements, definitions, performance measures, or selection criteria, subject to meeting applicable rulemaking requirements.

Note: This document does not solicit applications. In any year in which we choose to use one or more of these proposed priorities, requirements, definitions, and performance measures we invite applications through a notice in the Federal Register.

Executive Orders 12866, 13563, and 13771: Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

Under Executive Order 13771, for each new rule that the Department proposes for notice and comment or otherwise promulgates that is a significant regulatory action under Executive Order 12866, and that imposes total costs greater than zero, it must identify two deregulatory actions. For Fiscal Year 2018, any new incremental costs associated with a new regulation must be fully offset by the elimination of existing costs through deregulatory actions. Because the proposed regulatory action is not significant, the requirements of Executive Order 13771 do not apply.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities, requirements, definitions, and performance measures only on a reasoned determination that their benefits justify their costs. In choosing among alternative regulatory approaches, we selected those approaches that maximize net benefits. Based on the analysis that follows, the Department believes that this regulatory action is consistent with the principles in Executive Order 13563.

We also have determined that this regulatory action would not unduly interfere with State, local, and Tribal governments in the exercise of their governmental functions.

In accordance with these Executive orders, the Department has assessed the potential costs and benefits, both quantitative and qualitative, of this regulatory action. The potential costs associated with this regulatory action are those resulting from regulatory requirements and those we have determined are necessary for administering the Department's programs and activities.

Summary of Costs and Benefits: The Department believes that the proposed priorities, requirements, definitions, and performance measures would not impose significant costs on eligible research organizations, institutions, agencies, institutions of higher education, or partnerships among such entities, or individuals that would receive assistance through the Comprehensive Centers program. We also believe that the benefits of implementing the proposed priorities, requirements, definitions, and performance measures justify any associated costs.

The Department believes that the proposed priorities, requirements, definitions, and performance measures would result in the selection of high-quality applications to establish Centers that are most likely to build the capacity of SEAs in order to improve educational outcomes for all students. Through the proposed priorities, requirements, definitions, and performance measures, we seek to provide clarity as to the scope of activities we expect to support with program funds. A potential applicant would need to consider carefully its capacity to implement a project successfully.

The Department further believes that the costs imposed on an applicant by the proposed priorities, requirements, definitions, and performance measures would be largely limited to paperwork burden related to preparing an application and that the benefits of preparing an application and receiving an award would justify any costs incurred by the applicant. This is because, during the project period, the costs of actually establishing a Center and carrying out activities under a Comprehensive Centers program grant would be paid for with program funds and any matching funds. Thus, the costs of establishing a Comprehensive Center using these proposed priorities, requirements, definitions, and performance measures would not be a significant burden for any eligible applicant, including a small entity.

Elsewhere in this section under Paperwork Reduction Act of 1995, we identify and explain burdens specifically associated with information collection requirements.

Paperwork Reduction Act of 1995 (PRA): These proposed priorities, requirements, definitions, and performance measures do not contain any information collection requirements.

Regulatory Flexibility Act Certification: The Secretary certifies that this proposed regulatory action would not have a significant economic impact on a substantial number of small entities. The U.S. Small Business Administration Size Standards define “small entities” as for-profit or nonprofit institutions with total annual revenue below $7,000,000 or, if they are institutions controlled by small governmental jurisdictions (that are comprised of cities, counties, towns, townships, villages, school districts, or special districts), with a population of less than 50,000.

The small entities that this proposed regulatory action could affect are eligible research organizations, agencies, institutions of higher education, or partnerships among such entities, or individuals. The Secretary believes that the costs imposed on an applicant by the proposed priorities, requirements, definitions, and performance measures would be limited to paperwork burden related to preparing an application and that the benefits of implementing these proposals would outweigh any costs incurred by the applicant.

Participation in the Comprehensive Centers program is voluntary. For this reason, the proposed priorities, requirements, definitions, and performance measures would impose no burden on small entities unless they applied for funding under the Comprehensive Centers program using the proposed priorities, requirements, definitions, and performance measures. We expect that in determining whether to apply for Comprehensive Center funds, an eligible entity would evaluate the requirements of preparing an application and implementing a Comprehensive Center, and any associated costs, and weigh them against the benefits likely to be achieved by implementing a Center. An eligible entity would probably apply only if it determines that the likely benefits exceed the costs of preparing an application and implementing a project. The likely benefits of applying for a Comprehensive Centers program grant include the potential receipt of a grant as well as other benefits that may accrue to an entity through its development of an application, such as the use of such application to create partnerships with other entities in order to assist SEAs.

The Secretary believes that the proposed priorities, requirements, definitions, and performance measures would not impose any additional burden on a small entity applying for a grant than the entity would face in the absence of the proposed action. That is, the length of the applications those entities would submit in the absence of the proposed regulatory action and the time needed to prepare an application would likely be the same.

Further, this proposed regulatory action could help a small entity determine whether it has the interest, need, or capacity to implement activities under the program and, thus, prevent a small entity that does not have such an interest, need, or capacity from absorbing the burden of applying.

This proposed regulatory action would not have a significant economic impact on a small entity once it receives a grant because it would be able to meet the costs of compliance using the funds provided under this program. The Secretary invites comments from small eligible entities as to whether they believe this proposed regulatory action would have a significant economic impact on them and, if so, requests evidence to support that belief.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: September 24, 2018.
Frank Brogan,
Assistant Secretary for Elementary and Secondary Education.

[FR Doc. 2018-21089 Filed 9-27-18; 8:45 am]

BILLING CODE 4000-01-P